DEPARTMENT OF LABOR

Office of the Secretary

Submission for OMB Review: Comment Request

July 14, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Hazardous Conditions Complaints.

OMB Number: 1219-0014.

Frequency: On occasion.

Type of Response: Reporting.

Affected Public: Business or other for-profit.

Number of Respondents: 1,003.

Number of Annual Responses: 1,003.

Estimated Time Per Response: 12 minutes.

Total Burden Hours: 201.

Total Annualized capital/startup costs: $0.

Total Annual Costs (operating/maintaining systems or purchasing services): $0.

Description: Section 103(g) of the Federal Mine Safety and Health Act of 1977 (Pub. L. 91-173, as amended by Pub. L. 95-164) (Mine Act), states that a representative of miners, or any individual miner where there is no representative of miners, may submit a written or oral notification of alleged violation of the Mine Act or a mandatory standard or of an imminent danger. Such notification requires MSHA to make an immediate inspection. A copy of the notice must be provided to the operator.

30 CFR, part 43, implements section 103(g) of the Mine Act. It provides the procedures for submitting notification of the alleged violation and the actions which MSHA must take after receiving the notice.

Agency: Mine Safety and Health Administration.

Type of Review: Extension of currently approved collection.

Title: Ventilation Plan and Main Fan Maintenance Record.

OMB Number: 1219-0016.

Frequency: On occasion and annually.

Type of Response: Recordkeeping and reporting.

Affected Public: Business or other for-profit.

Number of Respondents: 258.

Number of Annual Responses: 267.

Estimated Time Per Response: Varies from 24 hours to develop a new or revise an existing mine ventilation plan to 1.5 hours to develop or revise a main ventilation fan maintenance schedule.

Total Burden Hours: 6,206.

Total Annualized capital/startup costs: $0.

Total Annual Costs (operating/maintaining systems or purchasing services): $0.

Description: 30 CFR 57.8520 and 57.8525 requires mine operators to install and maintain a properly operating ventilation system and to maintain main fans according to either the manufacturers recommendations or a written periodic schedule developed by the mine operator.

Agency: Mine Safety and Health Administration.

Type of Review: Extension of currently approved collection.

Title: Slope and Shaft Sinking Plans.

OMB Number: 1219-0019.

Frequency: On occasion.

Type of Response: Reporting.

Affected Public: Business or other for-profit.

Number of Respondents: 78.

Number of Annual Responses: 78.

Estimated Time Per Response: 20 hours.

Total Burden Hours: 1,560.

Total Annualized capital/startup costs: $0.

Total Annual Costs (operating/maintaining systems or purchasing services): $1,170.

Description: 30 CFR 77.1900 requires coal mine operators to submit to MSHA for approval, a plan that will provide for the safety of workmen in each slope or shaft that is commenced or extended.

Agency: Mine Safety and Health Administration.

Type of Review: Extension of currently approved collection.

Title: Safety Defects; Examination, Correction and Records.

OMB Number: 1219-0089.

Frequency: On occasion; Annually; and each shift.

Type of Response: Reporting.

Affected Public: Business or other for-profit.

Number of Respondents: 12,163.

Information collection requirement | Annual responses | Average response time (hours) | Annual burden hours
30 CFR 56/57.13015 | 3,238 | 0.17 | 540
30 CFR 56/57.13030 | 488 | 0.17 | 81
30 CFR 56/57.14100 |  |  |
Small Mines | 4,243,837 | 0.08 | 339,507
Large Mines | 4,756,020 | 0.08 | 380,482
30 CFR 56/57.18002 | 2,438,987 | 0.20 | 487,797
Total: | 11,442,570 | ////// | 1,208,407

Total Annualized capital/startup costs: $0.

Total Annual Costs (operating/maintaining systems or purchasing services): $0.

Description: 30 CFR 56/57.14100, 56/57.13015, 56/57.13030, and 56/57.18002 requires equipment operators to inspect equipment, machinery, and tools that are to be used during a shift for safety defects before the equipment is placed in operation. Reports of uncorrected defects are required to be recorded by the mine operator and retained for MSHA review until the defect has been corrected.

Ira L. Mills,
Departmental Clearance Officer.

[FR Doc. 04-16538 Filed 7-20-04; 8:45 am]

BILLING CODE 4510-30-P